DEPARTMENT OF ENERGY

Federal Energy Regulatory Commission

[Docket No. CP04-363-000]

Columbia Gas Transmission Corporation; Notice of Application

Issued June 24, 2004.

Take Notice that on June 18, 2004, Columbia Gas Transmission Corporation (Columbia), 1700 MacCorkle Avenue, S.E., Charleston, West Virginia, filed in Docket No. CP04-363-000 an abbreviated application pursuant to section 7(c) of the Natural Gas Act (NGA), as amended, seeking authorization to reclassify a well in Columbia's Hunt Storage Field in Kanawha County, West Virginia, from observation status to an active withdrawal well, and to construct approximately 0.6 mile of 2-inch pipeline and appurtenances. This filing is available for review at the Commission in the Public Reference Room or may be viewed on the Commission's Web site at http://www.ferc.gov using the “e-Library” link. Enter the docket number excluding the last three digits in the docket number field to access the document. For assistance, please contact FERC Online at FERCOnlineSupport@ferc.gov or toll free, (866) 208-3676, or TTY, contact (202) 502-8659.

Any questions regarding this application should be directed to counsel for Columbia, Frederic J. George, at (304) 357-2359, FAX (304) 357-3206.

There are two ways to become involved in the Commission's review of this project. First, any person wishing to obtain legal status by becoming a party to the proceedings for this project should file on or before the date listed below with the Federal Energy Regulatory Commission, 888 First Street, NE., Washington, DC 20426, a motion to intervene in accordance with the requirements of the Commission's Rules of Practice and Procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on Commission's Web site under the “e-Filing” link. The Commission strongly encourages electronic filings.

Comment Date: July 15, 2004.

Magalie R. Salas,
Secretary.

[FR Doc. E4-1469 Filed 6-30-04; 8:45 am]

BILLING CODE 6717-01-P